DEPARTMENT OF COMMERCE

National Oceanic and Atmospheric Administration

RIN 0648-XZ09

Mid-Atlantic Fishery Management Council (MAFMC); Meeting

AGENCY: National Marine Fisheries Service (NMFS), National Oceanic and Atmospheric Administration (NOAA), Commerce.

ACTION: Notice of public meeting.

SUMMARY: The Mid-Atlantic Fishery Management Council's (MAFMC) Squid, Mackerel, and Butterfish Committee will hold a public meeting.

DATES: Wednesday, October 6, 2010, from 9 a.m. to 5 p.m.

ADDRESSES: The meeting will be held at the Embassy Suites Philadelphia Airport, 9000 Bartram Avenue, Philadelphia, PA 19153; (telephone: 215-365-4500).

Council Address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of this Squid, Mackerel, and Butterfish Committee meeting is to begin the development of Amendment 14 to the Atlantic Mackerel, Squid, and Butterfish Fishery Management Plan. Amendment 14 will be focused on monitoring, bycatch, and management integration issues, especially as related to alewife, blueback herring, American shad, and hickory shad in terms of their interactions with the directed Atlantic mackerel and Loligo fisheries. The meeting will generally be non-decisional and informational in nature, with the Committee receiving a variety of presentations on topics relevant to Amendment 14. An agenda, list of speakers, and any briefing documents will be posted to the Mackerel, Squid, and Butterfish section of the Mid-Atlantic Council's website, http://www.mafmc.org/fmp/msb.htm, by September 29, 2010.

Special Accommodations

The meeting is physically accessible to people with disabilities. Requests for sign language interpretation or other auxiliary aids should be directed to M. Jan Saunders at the Mid-Atlantic Council Office (302) 526-5251 at least five days prior to the meeting date.

Dated: September 13, 2010
Tracey L. Thompson,
Acting Director, Office of Sustainable Fisheries, National Marine Fisheries Service.

[FR Doc. 2010-23133 Filed 9-15-10; 8:45 am]

BILLING CODE 3510-22-S